DEPARTMENT OF AGRICULTURE

National Agricultural Statistics Service

Notice of Intent to Discontinue an Information Collection

AGENCY: National Agricultural Statistics Service, USDA.

ACTION: Notice.

SUMMARY: This notice announces the intent of the National Agricultural Statistics Service (NASS) to discontinue information collection for the Monthly Hogs and Pigs Survey.

DATES: The Monthly Hogs and Pigs Report will be terminated on September 9, 2003.

ADDRESSES: Not open for comment.

FOR FURTHER INFORMATION CONTACT: Contact Dan Kerestes, Chief, Livestock Branch, National Agricultural Statistics Service, U.S. Department of Agriculture, Room 6435 South Building, 1400 Independence Avenue SW., Washington, DC 20250-2000, (202) 720-3570.

SUPPLEMENTARY INFORMATION: Title: Monthly Hog Survey.

OMB Control Number: 0535-0241.

Expiration Date of Approval: 10/31/2003.

Type of Request: Intent to Discontinue an Information Collection.

Abstract: The primary objective of the National Agricultural Statistics Service is to prepare and issue State and National estimates of crop and livestock production. The Monthly Hog Surveys obtain basic agricultural statistics on Hogs and Pigs inventory from producers throughout the nation. Data are gathered on total breeding herd inventory, number of sows farrowed, pigs weaned, and number of sows bred the previous month.

Authorized funding for implementation of the Monthly Hog Survey was specified in Title IX—Livestock Mandatory Reporting, Subtitle C—Related Swine Reporting Provisions, Section 931, Improvements of Hogs and Pigs Inventory Report, which passed as part of the Agriculture, Rural Development, Food and Drug Administration, and Related Agencies the Appropriation Act, 2000. The survey was requested by the National Pork Producers Council and others in the hog industry to aid in forecasting pig production and to provide the pork industry with more knowledge of and quicker realization of market conditions. The Monthly Hogs and Pigs Survey questionnaire was developed to be consistent with the Quarterly Hogs and Pigs Survey questionnaire. The questionnaire was pre-tested with hog producers by NASS staff in mid-2000. NASS began collecting hog information in October 2000. Monthly data were released in the December, 2000, Quarterly Hogs and Pigs report. The first published Monthly Hogs and Pigs report occurred in January 2001. Response rates for the Monthly Hogs and Pigs Survey deteriorated due to increased respondent burden. The continued deterioration in response rates impacted the monthly survey indication by causing a greater portion of the indication to be estimated. The increase in monthly estimation also raised concern that the monthly report adversely impacted response rates of the Quarterly Hogs and Pigs Survey. NASS will be discontinuing collection and publication of the monthly report.

Dated July 2, 2003, at Washington, DC
R. Ronald Bosecker,
Administrator, National Agricultural Statistics Service.

[FR Doc. 03-17546 Filed 7-10-03; 8:45 am]

BILLING CODE 3410-20-P